NUCLEAR REGULATORY COMMISSION

[NRC-2019-0073]

Agency Activities in Response to a Portion of the Nuclear Energy Innovation and Modernization Act

AGENCY: Nuclear Regulatory Commission.

ACTION: Public meetings; request for comment.

SUMMARY: The U.S. Nuclear Regulatory Commission (NRC) is undertaking activities to implement the Nuclear Energy Innovation and Modernization Act (NEIMA) and develop a report identifying best practices for establishment and operation of local community advisory boards associated with decommissioning activities, including lessons learned from existing boards. As part of developing the report, the NRC will host a minimum of ten public meetings to consult with host States, communities within the emergency planning zone of a nuclear power reactor, and existing local community advisory boards. The NRC is seeking stakeholder input to inform the selection of public meeting locations.

DATES: Requests for a public meeting conducted in accordance with NEIMA must be filed by April 17, 2019.

ADDRESSES: You may submit comments by any of the following methods:

• Federal Rulemaking Website: Go to http://www.regulations.gov and search for Docket ID NRC-2019-0073. Address questions about NRC dockets IDs in Regulations.gov to Krupskaya Castellon; telephone: 301-287-9122; email: Krupskaya.Castellon@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Kim Conway, Office of Nuclear Material Safety and Safeguards, U.S. Nuclear Regulatory Commission, Washington, DC 20555-0001; telephone: 301-415-1335; email: NEIMA108.Resource@nrc.gov.

SUPPLEMENTARY INFORMATION:

I. Obtaining Information and Submitting Comments

A. Obtaining Information

Please refer to Docket ID NRC-2019-0073 when contacting the NRC about the availability of information for this action. You may obtain publicly-available information related to this action by any of the following methods:

• Federal Rulemaking Website: Go to http://www.regulations.gov and search for Docket ID NRC-2019-0073.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

B. Submitting Comments

Please include Docket ID NRC-2019-0073 in your comment submission. The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons to not include identifying or contact information that they do not want to be publicly disclosed in their comment submission. Your request should state that the NRC does not routinely edit comment submissions to remove such information before making the comment submissions available to the public or entering the comment into ADAMS.

II. Introduction

The NRC is planning to coordinate activities in accordance with Section 108 of NEIMA to collect information on the use local community advisory boards during decommissioning activities and issue a best practices report.

The contents of this report, scheduled to be issued to Congress by June 2020, will include a description of the type of topics that could be brought before a community advisory board; how the board's input could inform the decision-making process of stakeholders for various decommissioning activities; how the board could interact with the NRC and other Federal regulatory bodies to promote dialogue between the licensee and affected stakeholders; and how the board could offer opportunities for public engagement throughout all phases of the decommissioning process. The report will also include a discussion of the composition of existing community advisory boards and best practices identified during the establishment and operation of such boards, including logistical considerations, frequency of meetings, and the selection of board members.

In developing a best practices report, and as required by NEIMA, the NRC plans to consult with host States, communities within the emergency planning zone of a nuclear power reactor, and existing local community advisory boards. This consultation also includes a minimum of ten Category 3 public meetings to be held in locations that ensure geographic diversity across the United States, with priority given to States that (i) have a nuclear power reactor currently undergoing the decommissioning process; and (ii) request a public meeting under this provision of NEIMA. At NRC Category 3 public meetings, the public will be invited to participate by providing comments and asking questions.

III. Opportunity To Request a Public Meeting

The NRC is seeking stakeholder input to inform the selection of public meeting locations. Within 30 days from the date of publication of this notice, persons may submit a written request for the NRC to host a public meeting that would address the potential best practices for the establishment and use of a local community advisory board at decommissioning nuclear power reactors. After receiving these requests for public meetings, the NRC will determine the location and timing of the public meetings in order to ensure a geographic diversity across the United States, consistent with NEIMA. Meeting requests should be submitted as described in the ADDRESSES section of this document.

Dated at Rockville, Maryland this 13th day of March 2019.
For the Nuclear Regulatory Commission
Bruce A. Watson,
Chief, Reactor Decommissioning Branch, Division of Decommissioning, Uranium Recovery and Waste Programs, Office of Nuclear Material Safety and Safeguards.

[FR Doc. 2019-04960 Filed 3-15-19; 8:45 am]

BILLING CODE 7590-01-P